DEPARTMENT OF COMMERCE

National Oceanic and Atmospheric Administration

RIN 0648-XD035

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice, approved monitoring service providers.

SUMMARY: NMFS has approved five companies to provide at-sea monitoring services to Northeast (NE) multispecies vessels in fishing year (FY) 2014. Regulations implementing Amendment 16 to the NE Multispecies Fishery Management Plan (Amendment 16) require third-party at-sea monitoring service providers to apply to, and be approved by, NMFS in a manner consistent with the Administrative Procedure Act in order to be eligible to provide at-sea monitoring services to sectors.

ADDRESSES: Copies of the list of NMFS-approved sector monitoring service providers are available at http://www.nero.noaa.gov/sfd/sfdmultisector.html or by sending a written request to:

• Fax: (978) 281-9135, Attn: Mark Grant.

• Mail: 55 Great Republic Drive, Gloucester, MA 01930, Attn: Mark Grant.

For service provider contact information, see the SUPPLEMENTARY INFORMATION section of this notice.

FOR FURTHER INFORMATION CONTACT: Mark Grant, Sector Policy Analyst, (978) 281-9145, fax (978) 281-9135, email Mark.Grant@NOAA.gov.

SUPPLEMENTARY INFORMATION: Amendment 16 (75 FR 18262; April 9, 2010) expanded the sector management program, including requirements to ensure accurate monitoring of sector at-sea catch and dockside landings, and common pool dockside landings. Framework Adjustment 48 to the FMP (Framework 48, 78 FR 26118, May 3, 2013) removed dockside monitoring requirements and revised the goals and objectives for sector monitoring programs.

Standards for Approving At-Sea Monitoring Service Providers

Regulations at 50 CFR 648.87(b)(4) describe the criteria for NMFS approval of at-sea monitoring service providers. NMFS is approving service providers for FY 2014 (beginning May 1, 2014) based on: (1) Completeness of applications, (2) determination of the applicant's ability to perform the duties and responsibilities of a sector monitoring service provider, and (3) performance as NMFS-funded providers in FY 2013. NE multispecies sectors are required to design and implement independent, third-party at-sea monitoring programs in FY 2014, and are responsible for the costs of these monitoring requirements, unless otherwise instructed by NMFS.

NMFS first approved service providers for FY 2010, based upon the completeness of their application addressing the regulatory requirements (§ 648.87(b)(4)(i)), and a determination of the applicant's ability to perform the duties and responsibilities of a monitoring service provider. For FY 2013, NMFS approved service providers based on completeness of applications, determination of ability, and performance during FY 2012. During FY 2012 and 2013, at-sea monitoring has been conducted by A.I.S., Inc.; East West Technical Services, LLC; and MRAG Americas, Inc. under contract with NMFS.

Once approved, providers must document having met performance requirements in order to maintain eligibility (§ 648.87(b)(4)(ii)). NMFS can disapprove any previously approved service provider during the FY if the service provider in question ceases to meet the performance standards. NMFS must notify service providers of disapproval in writing.

Approved Monitoring Service Providers

NMFS received complete applications from five companies interested in providing at-sea monitoring services in FY 2014. Four of the applicants were previously approved to provide at-sea monitoring services to sectors. The fifth application was received from Fathom Research, a new applicant. The Regional Administrator has approved the following service providers as eligible to provide at-sea monitoring services in FY 2014:

Table 1—Approved FY 2014 Providers
Provider name | Address | Phone | Fax | Web site
ACD USA Ltd. | 4 Parker St., 2nd Floor, Gloucester, MA 01930 | 902-422-4745 | 902-422-9780 | www.atlanticcatchdata.ca.
A.I.S., Inc. | 89 N. Water St., P.O. Box 2093, New Bedford, MA 02741 | 508-990-9054 | 508-990-9055 | aisobservers.com.
East West Technical Services, LLC | 86 Mumford Rd., Narragansett, RI 02882 | 860-910-4957 | 860-223-6005 | www.ewts.com.
Fathom Research, LLC | 1213 Purchase St., New Bedford, MA 02740 | 508-990-0997 | 508-991-7372 | www.fathomresearchllc.com.
MRAG Americas, Inc. | 65 Eastern Ave., Unit B2C, Essex, MA 01929 | 978-768-3880 | 978-768-3878 | www.mragamericas.com.

Authority: 16 U.S.C. 1801 et seq.

Dated: January 2, 2014.
Sean F. Corson,
Acting Deputy Director, Office of Sustainable Fisheries, National Marine Fisheries Service.

[FR Doc. 2014-00026 Filed 1-6-14; 8:45 am]

BILLING CODE 3510-22-P